DEPARTMENT OF THE INTERIOR

Geological Survey

[GX24LB00TZ90100; OMB Control Number 1028-0082]

Agency Information Collection Activities; U.S. Geological Survey Bird Banding Permit Applications and Band Recovery Reports

AGENCY: U.S. Geological Survey, Department of the Interior.

ACTION: Notice of information collection; request for comment.

SUMMARY: In accordance with the Paperwork Reduction Act of 1995 (PRA), the U.S. Geological Survey (USGS) is proposing a renewal of an existing information collection.

DATES: Interested persons are invited to submit comments on or before January 3, 2024.

ADDRESSES: Written comments and recommendations for the proposed information collection request (ICR) should be sent within 30 days of publication of this notice to www.reginfo.gov/public/do/PRAMain. Find this particular information collection by selecting “Currently under Review—Open for Public Comments” or by using the search function. Please provide a copy of your comments by mail to USGS, Information Collections Clearance Officer, 12201 Sunrise Valley Drive, MS 159, Reston, VA 20192 or by email to gs-info_collections@usgs.gov. Please reference OMB Control Number 1028-0082, U.S. Geological Survey Bird Banding Permit Applications and Band Recovery, in the subject line of your comments.

FOR FURTHER INFORMATION CONTACT: To request additional information about this ICR, contact Antonio Celis-Murillo by email at acelis-murillo@usgs.gov, or by telephone at 301-497-5808. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on September 1, 2023 (88 FR 60482). One comment was received from the Ornithological Council (Laura Bies, Executive Director). Based on this feedback, we are adjusting the time burden for the Application for Federal Bird Banding or Marking Permit from 30 minutes to 60 minutes, raising the total burden by 40 hours to 4,734 hours.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The Bird Banding Program is the responsibility of the USGS Bird Banding Laboratory (BBL). The BBL plays a critical role in permitting the banding and marking of wild birds and is responsible for storing and maintaining data on banded and marked birds. This effort requires coordination between banders and people who later encounter the marked birds to ensure the data are available for later analyses. To achieve these goals, the BBL collects information using three forms: the Application for Federal Bird Banding or Marking Permit, the Federal Bird Banding or Marking Permit Renewal Form, and the Bird Banding Recovery Report.

Title of Collection: Bird Banding Permit Applications and Band Recovery Reports.

OMB Control Number: 1028-0082.

Form Number: None.

Type of Review: Extension of a currently approved collection.

Respondents/Affected Public: General public.

Total Estimated Number of Annual Respondents: 92,000.

—Bird Banding Permit Application: 80 respondents

—Bird Banding Permit Renewal: 400 respondents

—Band Recovery Form: 91,520 respondents

Total Estimated Number of Annual Responses: 93,150.

—Bird Banding Permit Application: 80 responses

—Bird Banding Permit Renewal: 400 responses

—Band Recovery Form: 92,670: responses

Estimated Completion Time per Response: 3 to 60 minutes, depending on form used.

—Bird Banding Permit Application: 60 minutes

—Bird Banding Permit Renewal: 3 minutes

—Band Recovery Form: 3 minutes

Burden Hours.

—Bird Banding Permit Application: 80 hours

—Bird Banding Permit Renewal: 20 hours

—Band Recovery Report Form: 4,634 hours

Total Estimated Number of Annual Burden Hours: 4,734 hours.

Respondent's Obligation: Voluntary.

Frequency of Collection: On occasion.

Total Estimated Annual Nonhour Burden Cost: We have not identified any “non-hour cost” burdens associated with this collection of information.

An agency may not conduct or sponsor, nor is a person required to respond to, a collection of information unless it displays a currently valid OMB control number.

The authority for this action is the PRA (44 U.S.C. 3501 et seq.).

Antonio Celis-Murillo,
Chief, USGS Bird Banding Laboratory.

[FR Doc. 2023-26566 Filed 12-1-23; 8:45 am]

BILLING CODE 4388-11-P